DEPARTMENT OF THE INTERIOR

National Park Service

[NPS-WASO-NAGPRA-NPS0039212; PPWOCRADN0-PCU00RP14.R50000]

Notice of Inventory Completion: Louisiana State University, Museum of Natural Science, Baton Rouge, LA

AGENCY: National Park Service, Interior.

ACTION: Notice.

SUMMARY: In accordance with the Native American Graves Protection and Repatriation Act (NAGPRA), the Louisiana State University, Museum of Natural Science (LSUMNS) has completed an inventory of an associated funerary object and has determined that there is a cultural affiliation between the associated funerary object and Indian Tribes or Native Hawaiian organizations in this notice.

DATES: Repatriation of the associated funerary object in this notice may occur on or after January 17, 2025.

ADDRESSES: Dr. Irene Martí Gil, LSU Museum of Natural Science, 119 Foster Hall, LSU, Baton Rouge, LA 70803, telephone (225) 578-2855, email imart23@lsu.edu.

SUPPLEMENTARY INFORMATION: This notice is published as part of the National Park Service's administrative responsibilities under NAGPRA. The determinations in this notice are the sole responsibility of the LSUMNS, and additional information on the determinations in this notice, including the results of consultation, can be found in its inventory or related records. The National Park Service is not responsible for the determinations in this notice.

Abstract of Information Available

One associated funerary object has been identified after re-inventorying the LSUMNS archaeological collections. The associated funerary object is a small, anthropomorphic, pottery figurine. This figurine was recovered from the Morton Shell Mound site (16IB3) (also known as Weeks Island or LMS 33-I-3), located on the Weeks Island salt dome in Iberia Parish, LA, by a local individual and donated to the LSU Museum of Natural Science when Mr. Robert Neuman was the Curator. The LSUMNS never formally accessioned this object and we do not possess any further information.

This notice supplements the original 2022 Notice of Inventory Completion published in the Federal Register (87 FR 69307-69313, November 18, 2022), which identified only human remains representing 275 individuals removed from the site as part of an intensive research program under the direction of then-LSUMNS Curator of Anthropology Robert Neuman between 1969 and 1971.

Cultural Affiliation

Based on the information available and the results of consultation, cultural affiliation is reasonably identified by the geographical location or acquisition history of the associated funerary objects described in this notice.

Determinations

The LSUMNS has determined that:

• The one object described in this notice is reasonably believed to have been placed intentionally with or near individual human remains at the time of death or later as part of the death rite or ceremony.

• There is a connection between the associated funerary object described in this notice and the Chitimacha Tribe of Louisiana.

Requests for Repatriation

Written requests for repatriation of the associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary object described in this notice to a requestor may occur on or after January 17, 2025. If competing requests for repatriation are received, the LSUMNS must determine the most appropriate requestor prior to repatriation. Requests for joint repatriation of the associated funerary object are considered a single request and not competing requests. The LSUMNS is responsible for sending a copy of this notice to the Indian Tribes and Native Hawaiian organizations identified in this notice.

Authority: Native American Graves Protection and Repatriation Act, 25 U.S.C. 3003, and the implementing regulations, 43 CFR 10.10.

Dated: December 11, 2024.
Melanie O'Brien,
Manager, National NAGPRA Program.

[FR Doc. 2024-29941 Filed 12-17-24; 8:45 am]

BILLING CODE 4312-52-P